DEPARTMENT OF VETERANS AFFAIRS

[OMB Control No. 2900-0718]

Agency Information Collection Activity: Yellow Ribbon Program Agreement and Principles of Excellence for Educational Institutions

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice.

DATES: Written comments and recommendations on the proposed collection of information should be received on or before August 29, 2022.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0718” in any correspondence. During the comment period, comments may be viewed online through FDMS.

FOR FURTHER INFORMATION CONTACT: Maribel Aponte, Office of Enterprise and Integration, Data Governance Analytics (008), 1717 H Street NW, Washington, DC 20006, (202) 266-4688 or email maribel.aponte@va.gov. Please refer to “OMB Control No. 2900-0718 in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Title 38 United States Code (U.S.C.) 3317 and Executive Order 13607.

Title: Yellow Ribbon Program Agreement and Principles of Excellence for Educational Institutions, VA Form 22-0839 and VA Form 22-10275.

OMB Control Number: 2900-0718.

Type of Review: Reinstatement with change.

Abstract: These forms will be used to satisfy requirements as outlined. VA Form 22-0839, Yellow Ribbon Program Agreement, is sanctioned by Public Law 110-252 which authorized the Department of Veterans Affairs (VA) to administer an education benefit program known as the Post-9/11 GI Bill. Section 3317 of title 38, United States Code, established the Yellow Ribbon G.I. Enhancement Program, referred to as the “Yellow Ribbon Program”. The Yellow Ribbon Program allows institutions of higher Learning (IHLs) to voluntarily enter into an agreement with VA to commit to contributing towards the outstanding amount of tuition and fees not otherwise covered under the Post-9/11 GI Bill. VA will match the contribution made by the IHL not to exceed fifty percent of the total outstanding amount of tuition and fees. IHLs wishing to participate in the Yellow Ribbon Program are required to submit the Yellow Ribbon Program Agreement (VA Form 22-0839) indicating the maximum number of students that can receive this additional benefit under the program, the maximum contribution towards outstanding tuition and fees for each student based on student status (i.e., undergraduate, graduate, doctoral) or sub-element (i.e., college or professional school). Title 38 U.S.C 3317 necessitates this collection of information. VA Form 22-10275, Principles of Excellence for Educational Institution is authorized by Executive Order 13607. Participating schools commit to voluntarily follow the guidelines outlined in Executive Order 13607 intended to promote transparency and student success. Currently, the VA Form 22-0839 includes the Principles of Excellence (POE) application, but because only degree granting schools can participate in the Yellow Ribbon Program, non-degree granting schools are disadvantaged. Further the Yellow Ribbon Program Participation is only solicited during an annual `open season' from March to May, POE participation is further restricted. VA Form 22-10275 will be made available year-round. Executive Order 13607 necessitates this collection of information.

Affected Public: Individuals and households.

Estimated Annual Burden: 25,928 hours.

Estimated Average Burden per Respondent: 14 hours.

Frequency of Response: Once per form type.

Estimated Number of Respondents: 1,852.

By direction of the Secretary.
Maribel Aponte,
VA PRA Clearance Officer, Office of Enterprise and Integration/Data Governance Analytics, Department of Veterans Affairs.

[FR Doc. 2022-14017 Filed 6-29-22; 8:45 am]

BILLING CODE 8320-01-P